NUCLEAR REGULATORY COMMISSION

[Docket No. 70-143-CO, ASLBP No. 07-857-01-CO]

Nuclear Fuel Services (Confirmatory Order); Notice of Reconstitution

Pursuant to 10 CFR 2.321, the Atomic Safety and Licensing Board in the above captioned Nuclear Fuel Services proceeding is hereby reconstituted by appointing Administrative Judge G. Paul Bollwerk in place of Administrative Judge Peter Lam, whose retirement from the Panel has rendered him unavailable to participate in this proceeding (10 CFR 2.313(c)).

In accordance with 10 CFR 2.302, henceforth all correspondence, documents, and other material relating to any matter in this proceeding over which this Licensing Board has jurisdiction should be served on Administrative Judge Bollwerk as follows: Administrative Judge G. Paul Bollwerk, Atomic Safety and Licensing Board Panel, U.S. Nuclear Regulatory Commission, Washington, DC 20555-0001.

Dated: Issued at Rockville, Maryland, this 9th day of October 2007.
E. Roy Hawkens,
Chief Administrative Judge, Atomic Safety and Licensing Board Panel.

[FR Doc. E7-20415 Filed 10-15-07; 8:45 am]

BILLING CODE 7590-01-P